DEPARTMENT OF ENERGY

Federal Energy Regulatory Commission

Combined Notice of Filings #1

Take notice that the Commission received the following electric rate filings:

Docket Numbers: ER10-2527-003; ER10-3168-019; ER15-356-006; ER15-357-006; ER10-2532-009; ER10-1595-005; ER10-2533-003; ER10-1598-007; ER10-2535-004; ER10-1616-007; ER10-1618-007.

Applicants: Allegheny Ridge Wind Farm, LLC, ArcLight Energy Marketing, LLC, Chief Conemaugh Power, LLC, Chief Keystone Power, LLC, Crescent Ridge LLC, Crete Energy Venture, LLC, GSG, LLC, Lincoln Generating Facility, LLC, Mendota Hills, LLC, New Covert Generating Company, LLC, Rolling Hills Generating, L.L.C.

Description: Notice of Non-Material Change in Status of Allegheny Ridge Wind Farm, LLC, et. al.

Filed Date: 3/1/17.

Accession Number: 20170301-5340.

Comments Due: 5 p.m. ET 3/22/17.

Docket Numbers: ER10-2563-005; ER10-1894-008; ER10-1882-005; R10-3036-005; ER10-3042-006,

Applicants: Wisconsin Electric Power Company, Wisconsin Public Service Corporation, Wisconsin River Power Company, WPS Power Development LLC, Combined Locks Energy Center, LLC.

Description: Notification of Change of Status of the WEC MBR Entities.

Filed Date: 3/1/17.

Accession Number: 20170301-5332.

Comments Due: 5 p.m. ET 3/22/17.

Docket Numbers: ER17-742-000.

Applicants: CP Bloom Wind LLC.

Description: Amendment to January 4, 2017 CP Bloom Wind LLC tariff filing.

Filed Date: 2/6/17.

Accession Number: 20170206-5151.

Comments Due: 5 p.m. ET 3/9/17.

Docket Numbers: ER17-1081-000.

Applicants: Midcontinent Independent System Operator, Inc.

Description: § 205(d) Rate Filing: 2017-03-01_ELMP Phase II Filing to be effective 5/1/2017.

Filed Date: 3/1/17.

Accession Number: 20170301-5285.

Comments Due: 5 p.m. ET 3/22/17.

Docket Numbers: ER17-1082-000.

Applicants: WPS Power Development, LLC.

Description: § 205(d) Rate Filing: Revised Market Based Rate Tariff to be effective 2/25/2016.

Filed Date: 3/2/17.

Accession Number: 20170302-5001.

Comments Due: 5 p.m. ET 3/23/17.

Docket Numbers: ER17-1083-000.

Applicants: RC Cape May Holdings, LLC.

Description: § 205(d) Rate Filing: Reliability Must-Run Rate Schedule, Electric Rate Schedule FERC No. 3 to be effective 5/1/2017.

Filed Date: 3/2/17.

Accession Number: 20170302-5007.

Comments Due: 5 p.m. ET 3/23/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 2, 2017.
Nathaniel J. Davis, Sr.,
Deputy Secretary.

[FR Doc. 2017-04534 Filed 3-7-17; 8:45 am]

BILLING CODE 6717-01-P